DEPARTMENT OF THE TREASURY

Submission for OMB Review; Comment Request

January 27, 2014.

The Department of the Treasury will submit the following information collection request to the Office of Management and Budget (OMB) for review and clearance in accordance with the Paperwork Reduction Act of 1995, Public Law 104-13, on or after the date of publication of this notice.

DATES: Comments should be received on or before March 3, 2014 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Bureau of the Fiscal Service

OMB Number: 1510-0059.

Type of Review: Extension without change of a currently approved collection.

Title: Authorization Agreement for Preauthorized Payment.

Form: SF-5510.

Abstract: Preauthorized payment is used by remitters (individuals and corporations) to authorize electronic funds transfers from the bank accounts maintained at financial institutions for government agencies to collect monies.

Affected Public: Individuals or Households; Private Sector: Businesses or other for-profits.

Estimated Annual Burden Hours: 25,000.

Dawn D. Wolfgang,
Treasury PRA Clearance Officer.

[FR Doc. 2014-01830 Filed 1-29-14; 8:45 am]

BILLING CODE 4810-35-P